DEPARTMENT OF AGRICULTURE

Forest Service

Notice of Meeting; Federal Lands Recreation Enhancement Act (Title VIII, Pub. L. 108-447)

AGENCY: Black Hills National Forest, Rocky Mountain Region.

ACTION: Notice of meeting.

SUMMARY: The Black Hills National Forest Advisory Board, acting in its capacity as the Black Hills National Forest Recreation Resource Advisory Committee (RRAC), will meet in Rapid City, SD. The purpose of the meeting is for the Committee to consider recommending special recreation permit fees to use the Black Hills National Forest's designated, motorized, off-highway vehicle trail system. Fees would include a $20.00 weekly permit, a $40.00 annual permit, and a $100.00 commercial vehicle annual permit. The fees would be established pursuant to Public Law 108-447 (H.R. 48 118), September 8, 2004, Consolidated Appropriations Act, 2005, Title Vill-Federal Lands Recreation Enhancement Act, Section 803 Recreation Fee Authority, (h) Special Recreation Permit Fee.

DATES: The meeting(s) will tentatively be held October 15 from 1 p.m. to 5 p.m. This meeting will only be held if a quorum of the Committee is present.

ADDRESSES: The meeting will be held at the Rushmore Plaza Civic Center; LaCroix Hall, in Rapid City, South Dakota. Details will be published prior to the meeting on the Black Hills National Forest Web site at http://www.fs.fed.us/r2/blackhills, and in the news media. Send written comments to Craig Bobzien, Designated Federal Official, 1019 N. 5th St., Custer, SD, 57730 or e-mail twillems@fs.fed.us.

FOR FURTHER INFORMATION CONTACT: Tom Willems, Black Hills National Forest Travel Planner at 605-673-9217 or twillems@fs.fed.us.

SUPPLEMENTARY INFORMATION: The meeting is open to the public. There will be time on the agenda for timed verbal comments (at the discretion of the Chair) and the Chair may ask for comments from the public at any time during the meeting. People wishing to speak at the meeting are asked to sign in at the door with a name and contact information. Public comments will be taken based first-come, first-served. The public may provide written comments to the Committee staff. Check for the status of the meeting, the final agenda, and a special recreation permit fee proposal at: http://wwwfs.fed.us/r2/blackhills. The Recreation RAC is authorized by the Federal Land Recreation Enhancement Act, which was signed into law by President Bush in December 2004.

Dated: September 25, 2008.
Craig Bobzien,
Forest Supervisor, Black Hills National Forest, DFO, Black Hills National Forest Recreation Resource Advisory Committee.

[FR Doc. E8-23994 Filed 10-9-08; 8:45 am]

BILLING CODE 3410-11-M